DEPARTMENT OF ENERGY

Federal Energy Regulatory Commission

[Project No. 1417-246]

Central Nebraska Public Power and Irrigation District; Notice of Application for Amendment of License and Soliciting Comments, Motions To Intervene, and Protests

December 17, 2009.

Take notice that the following application has been filed with the Commission and is available for public inspection:

a. Application Type: Shoreline Management Plan (SMP).

b. Project No.: 1417-246.

c. Date Filed: December 7, 2009.

d. Applicant: Central Nebraska Public Power and Irrigation District.

e. Name of Project: Kingsley Dam Project.

f. Location: The project is located on the North Platte and Platte Rivers in Garden, Keith, Lincoln, Gosper, and Dawson Counties, Nebraska.

g. Filed Pursuant to: Federal Power Act, 16 U.S.C. 791(a)-825(r).

h. Applicant Contact: Michael A. Drain, Central Nebraska Public Power and Irrigation District, 415 Lincoln Street, P.O. Box 740, Holdrege, NE 68949-0740, (308) 995-8601.

i. FERC Contact: Any questions on this notice should be addressed to Rebecca Martin at (202) 502-6012, or by e-mail: Rebecca.martin@ferc.gov.

j. Deadline for filing comments and/or motions: January 19, 2010.

All documents (original and eight copies) should be filed with: The Secretary, Federal Energy Regulatory Commission, 888 First Street, NE., Washington, DC 20426. Please include the project number (P-1417-246) on any comments or motions filed.

The Commission's Rules of Practice require all interveners filing documents with the Commission to serve a copy of that document on each person on the official service list for the project. Further, if an intervener files comments or documents with the Commission relating to the merits of an issue that may affect the responsibilities of a particular resource agency, they must also serve a copy of the document on that resource agency. A copy of any motion to intervene must also be served upon each representative of the Applicant specified in the particular application.

k. Description of Proposal: Central Nebraska Public Power and Irrigation District filed, for Commission approval, an SMP for the Kingsley Dam Project. The SMP is a comprehensive plan to manage the multiple resources and uses of the project's shoreline in a manner that is consistent with license requirements and project purposes, protection of environmental resources, and to address the needs and interests of stakeholders.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3372 or e-mail FERCOnlineSupport@ferc.gov; for TTY, call (202) 502-8659. A copy is also available for inspection and reproduction at the address in item (h) above.

m. Individuals desiring to be included on the Commission's mailing list should so indicate by writing to the Secretary of the Commission.

n. Comments, Protests, or Motions To Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E9-30577 Filed 12-23-09; 8:45 am]

BILLING CODE 6717-01-P